DEPARTMENT OF THE INTERIOR

Fish and Wildlife Service

[FWS-R1-R-2008-N0145; 1265-0000-10137-S3]

Hanford Reach National Monument, Adams, Benton, Franklin and Grant Counties, WA

AGENCY: Fish and Wildlife Service, Interior.

ACTION: Notice of availability of the final comprehensive conservation plan and environmental impact statement.

SUMMARY: We, the U.S. Fish and Wildlife Service (Service), announce the availability of the final Comprehensive Conservation Plan (CCP) and Environmental Impact Statement (EIS) for the Hanford Reach National Monument (Monument). In this final CCP/EIS, we describe how the Monument will be managed for the next 15 years.

DATES: We will sign a Record of Decision no sooner than 30 days after publication of this notice.

ADDRESSES: You may view or obtain copies of the final CCP/EIS by any of the following methods:

Agency Web Site: Download a copy of the CCP/EIS at http://www.hanfordreach.fws.gov.

E-mail: E-mail your request to daniel_haas@fws.gov. Unless otherwise specified, copies of the final CCP/EIS will be provided on a compact disk.

Mail: Mail your request to Dan Haas, U.S. Fish and Wildlife Service, 3250 Port of Benton Boulevard, Richland, WA 99354.

In-Person Viewing or Pickup: The final CCP/EIS can be obtained at the address above, Monday thru Thursday, 8:30 a.m. to 4:30 p.m., and Friday 8:30 a.m. to 3:30 p.m.

Local Libraries: The final CCP/EIS is available at public libraries in Kennewick, Pasco, and Richland, Washington (see http://www.hanfordreach.fws.gov for details).

FOR FURTHER INFORMATION CONTACT: Greg Hughes or Dan Haas, at (509) 371-1801 or daniel_haas@fws.gov.

SUPPLEMENTARY INFORMATION:

Introduction

With this notice, we announce the availability of the final CCP/EIS for the Monument in accordance with National Environmental Policy Act (NEPA) (40 CFR 1506.6(b)) requirements. The Service completed a thorough analysis of impacts on the human environment, which are included in the final EIS for the CCP. The CCP identifies Alternative C-1 as the Service's preferred alternative. We released the Draft CCP/EIS to the public, announcing and requesting comments in a notice of availability in the Federal Register (71 FR 239 74929-74931; December 13, 2006).

The Monument was established in 2000 by Presidential Proclamation 7319 (Proclamation) under the authority of the American Antiquities Act of 1906 (16 U.S.C. §§ 431-33, 34 Stat. 225). The Monument's lands forms a horseshoe shape around the Department of Energy's (DOE) Hanford Nuclear Reservation, comprising 196,000 acres of the 375,000-acre site. The Monument is managed by both the Service and DOE, with the Service-managed areas administered under a permit from the DOE.

Natural and Cultural Resources

The Monument was established to protect a wide variety of natural and cultural resources. It contains one of two remaining large expanses of shrub-steppe habitat in Washington, supporting shrub-steppe obligate bird and reptile species, healthy populations of mule deer and coyotes, game birds including gray partridge and chukars, and a large elk herd. Forty-seven miles of the last free-flowing stretch of the Columbia River flows through the Monument, maintaining commercially viable populations of fall Chinook salmon, healthy waterfowl populations, game fish such as largemouth bass and walleye, many of the last remaining big sturgeon in the Columbia River system, and large populations of waterbirds such as white pelicans, black-crowned night herons, and overwintering bald eagles. The Monument also supports several endangered, threatened, or sensitive species, including spring Chinook salmon, Columbia River steelhead, ferruginous hawks, persistentsepal yellowcress, Umtanum desert buckwheat, and White Bluffs bladderpod. The Monument also may provide viable habitat for northern wormwood, western sage grouse, and pygmy rabbits.

The abundance of wildlife has led to a millennia of use by American Indians, resulting in a rich base of cultural resources, including prehistoric and traditional activities still in practice. The Monument also contains many of the modern cultural artifacts related to operation of the Hanford Nuclear Reservation.

Background

The National Wildlife Refuge System Improvement Act of 1997 (16 U.S.C. 668dd-668ee), which amended the National Wildlife Refuge System Administration Act of 1966, requires the Service to develop a CCP for each national wildlife refuge. The purpose in developing a CCP is to provide refuge managers a 15-year plan for achieving refuge purposes and contributing toward the National Wildlife Refuge System mission, consistent with sound principles of fish and wildlife management, conservation, legal mandates, and Service policies. In addition to outlining broad management direction for conserving wildlife and habitats, CCPs identify wildlife-dependent recreational opportunities including hunting, fishing, wildlife observation and photography, and environmental education and interpretation. Each CCP is reviewed periodically and updated at least once every 15 years in accordance with the National Wildlife Refuge System Administration Act and NEPA.

CCP Alternatives

The Draft CCP/EIS addressed priority issues raised by the Service, other governmental partners, American Indian tribes, special interest groups, and the public. To address these priority issues, we developed and evaluated eight alternatives—A, B, B-1, C, C-1, D, E, and F—during the planning process. We solicited comments on the Draft CCP/EIS from December 6, 2006, to March 10, 2007. We received 308 comment communications. When possible and appropriate, comments were incorporated into the final CCP/EIS. In Appendix B of the final CCP/EIS responses to all substantive comments are provided. All the alternatives address all significant issues.

Alternative A: No Action. Alternative A assumes no change from existing management and thus provides a baseline for evaluating impacts of the other alternatives. Current management practices would be continued in accordance with Proclamation mandates and agreements, to conserve and protect biological, geological, paleontological and cultural resources. Conservation activities would involve inventory and monitoring, habitat restoration, invasive species control, fire protection, fire rehabilitation, and maintenance of existing facilities. Land use designations in place at the time of Monument establishment would be maintained. Public access for recreational, interpretive and educational purposes would continue year-round in designated areas and would be restricted from sensitive resource areas. Limited interpretive and educational programs would be presented on request, dependent upon staff availability.

Alternative B. Alternative B emphasizes restoration of native plants and animals in upland, riparian and aquatic habitats. Compared to the other alternatives, Alternative B would provide the greatest emphasis on conservation, protection and monitoring of the biological, geological, paleontological and cultural resources described in the Proclamation. Increased opportunities for restoration-based research of the native landscape and habitats for species of concern would be promoted, and information sharing between partners and researchers would be encouraged. Public access for day-use recreation, interpretation, and education would continue year-round in designated areas, with a greater degree of management controls and use restrictions in place to ensure resource protection, when compared to other alternatives. Visitor facilities would be developed only in the Monument's least sensitive areas and only after a comprehensive inventory of resources is conducted and sensitive resources are identified in the area under consideration. Interpretation and education programs would be provided; however, fewer people would be served than in Alternatives C, C-1, D, E and F.

Alternative B-1. Alternative B-1 is identical to Alternative B, except that hunting would not be allowed anywhere on the Monument.

Alternative C. Alternative C would protect and conserve biological, geological, paleontological and cultural resources described in the Proclamation, by creating and maintaining extensive areas within the Monument that are free of facility development. This would serve conservation, restoration, protection, and recreation purposes by maintaining large natural landscapes, protecting sensitive resources, and providing opportunities for solitude. The facilities and access points that would be provided would be concentrated to minimize overall impacts to the Monument and to provide economies of scale in management and maintenance. Public access points and recreational facilities would be planned and developed along highways and in perimeter areas of the Monument. Certain existing facilities and infrastructure currently present within the Monument would be relocated. Vehicle access into the interior of the Monument would be limited; however, much of the Monument would be open to foot and other non-motorized access. Facilities, such as the boat-in campsites along the Hanford Reach provided for in this alternative, would be developed after inventories of resources are conducted and sensitive resources are identified in the areas under consideration. Interpretation and education programs would serve greater numbers of people than Alternatives A, B, C-1 and F, but fewer than Alternatives D and E.

Alternative C-1. Alternative C-1 was developed in response to comments received on the draft CCP from tribes, cooperating agencies, local governments, and the general public. Like Alternative C, Alternative C-1 would protect and conserve the biological, geological, paleontological and cultural resources described in the Proclamation, by creating and maintaining extensive areas free of facility development. This would serve conservation, restoration, protection, and recreation purposes by maintaining large natural landscapes, protecting sensitive resources, and providing opportunities for solitude. The facilities and access points that would be provided would be concentrated together to minimize overall impacts to the Monument and to provide economies of scale in management and maintenance. Public access points and recreational facilities would be planned and developed along highways and in perimeter areas. Unlike Alternative C, existing facilities and infrastructure currently present would not be relocated or closed, such as the White Bluffs Boat Launch. Vehicle access into the Monument's interior would be less limited, although like Alternative C, much of the Monument would be open to foot and other non-motorized access. Facilities, such as the boat-in campsites along Hanford Reach provided for in this alternative, would be developed after inventories of resources are conducted and sensitive resources are identified in the area under consideration. Interpretation and education programs would serve greater numbers of people than Alternatives A, B, B-1 and F, but fewer than Alternatives C, D and E.

Alternative D. Alternative D provides the greatest degree of public access, recreational opportunities, and facilities development. The conservation, protection and monitoring of the biological, geological, paleontological and cultural resources described in the Proclamation would still be the primary priorities; however, more time, effort and resources would be devoted to public use than in the other alternatives, likely decreasing the resources and attention available to restoration activities. Resource inventories, identification of sensitive areas, and restoration activities would be concentrated in the areas of highest public use. Resource protection, restoration research, and monitoring would focus on the impacts created from recreational activities. Public access sites and facilities would be developed throughout the Monument and to a greater extent than Alternatives A, B, B-1, C, C-1 and F; access would be restricted from the most sensitive areas. Visitor facilities would include improved boat launches, auto tour routes, and campgrounds. Interpretation and education programs would serve the highest number of people of all the alternatives.

Alternative E. Alternative E was formulated by the Monument's Federal Advisory Committee during a workshop held June 16-17, 2004. It provides an alternate public use emphasis to that of Alternative D. Alternative E provides a high degree of public access and facilities development. It does this through the combination of elements from Alternatives C and D. The underlying open space concept of Alternative C is maintained through the concentration of facilities in perimeter areas; however, access and areas open to the public more closely resemble Alternative D. Again, the conservation, protection and monitoring of the biological, geological, paleontological, and cultural resources described in the Proclamation is the top priority, but as in Alternative D, substantial effort and resources would be devoted to public use, likely decreasing the resources available for restoration activities. Resource inventories, identification of sensitive areas and restoration activities would be concentrated in areas of highest public use. Resource protection, restoration research, and monitoring would focus on impacts created from recreational activities. Public access points and facilities would be developed in perimeter areas and to a greater extent than Alternatives A, B and F; access would be restricted from the most sensitive areas. Visitor facilities would include improved boat launches and campgrounds. Interpretation and education programs would serve a high number of people, although not as many as Alternative D.

Alternative F. The Confederated Tribes of the Umatilla Indian Reservation (CTUIR) developed this alternative using Alternative B as its basis for management emphasis and public access. While similar to Alternative B, Alternative F would provide a slight increase in the areas open to public access. The one significant difference is the proposed addition of a public access permit system, with the possible establishment of fee areas. Interpretation and education programs would be provided; however, fewer people would be served than in Alternatives C, C-1, D and E.

Preferred Alternative. We have identified Alternative C-1, as described above, as our preferred alternative, pending a final selection to be documented in a Record of Decision.

Dated: May 23, 2008.
Renne R. Lohoefener,
Regional Director, Region 1, Portland, Oregon.

[FR Doc. E8-18445 Filed 8-14-08; 8:45 am]

BILLING CODE 4310-55-P